DEPARTMENT OF ENERGY

10 CFR Part 431

[Docket No. EERE-2009-BT-STD-0018]

RIN 1904-AC00

Energy Efficiency Program for Consumer Products: Public Meeting and Availability of the Framework Document for Metal Halide Lamp Fixtures

AGENCY: Office of Energy Efficiency and Renewable Energy, Department of Energy.

ACTION: Notice of public meeting and availability of the framework document.

SUMMARY: The U.S. Department of Energy (DOE) is initiating the rulemaking and data collection process to establish amended energy conservation standards for certain metal halide lamp fixtures. Accordingly, DOE will hold an informal public meeting to discuss and receive comments on its planned analytical approach and issues it will address in this rulemaking proceeding. DOE welcomes written comments from the public on any subject within the scope of this rulemaking. To inform interested parties and to facilitate this process, DOE has prepared a framework document that details the analytical approach and identifies several issues on which DOE is particularly interested in receiving comment. A copy of the framework document is available at: http://www1.eere.energy.gov/buildings/appliance_standards/commercial/metal_halide_lamp_ballasts.html.

DATES: DOE will hold a public meeting on Tuesday, January 26, 2010, from 9 a.m. to 4 p.m. in Washington, DC. DOE must receive requests to speak at the public meeting before 4 p.m., Tuesday, January 12, 2010. DOE must receive a signed original and an electronic copy of the statement to be given at the public meeting before 4 p.m., Tuesday, January 19, 2010. DOE will accept written comments, data, and information regarding the framework document before and after the public meeting, but no later than January 29, 2010.

ADDRESSES: The public meeting will be held at the U.S. Department of Energy, Forrestal Building, Room 1E-245, 1000 Independence Avenue, SW., Washington, DC 20585-0121. Please note that foreign nationals planning to participate in the public meeting are subject to advance security screening procedures. If a foreign national wishes to participate in the public meeting, please inform DOE of this fact as soon as possible by contacting Ms. Brenda Edwards at (202) 586-2945 so that the necessary procedures can be completed.

Interested parties may submit comments, identified by docket number EERE-2009-BT-STD-0018 and/or Regulation Identifier Number (RIN) 1904-AC00, by any of the following methods:

• Federal eRulemaking Portal: http://www.regulations.gov. Follow the instructions for submitting comments.

• E-mail: MHLF-2009-STD-0018@ee.doe.gov. Include docket number EERE-2009-BT-STD-0018 and/or RIN 1904-AC00 in the subject line of the message.

• Mail: Ms. Brenda Edwards, U.S. Department of Energy, Building Technologies Program, Mailstop EE-2J, Framework Document for Metal Halide Lamp Fixtures, Docket No. EERE-2009-BT-STD-0018 and/or RIN 1904-AC00, 1000 Independence Avenue, SW., Washington, DC 20585-0121. Please submit one signed paper original.

• Hand Delivery/Courier: Ms. Brenda Edwards, U.S. Department of Energy, Building Technologies Program, Sixth Floor, 950 L'Enfant Plaza, SW., Washington, DC 20024. Please submit one signed paper original.

Docket: For access to the docket to read background documents, a copy of the transcript of the public meeting, or comments received, go to the U.S. Department of Energy, Resource Room of the Building Technologies Program, Sixth Floor, 950 L'Enfant Plaza, SW., Washington, DC 20024, (202) 586-2945, between 9 a.m. and 4 p.m., Monday through Friday, except Federal holidays. Please call Ms. Brenda Edwards first at the above telephone number for additional information regarding visiting the Resource Room.

FOR FURTHER INFORMATION CONTACT: Ms. Linda Graves, U.S. Department of Energy, Office of Energy Efficiency and Renewable Energy, Building Technologies, EE-2J, 1000 Independence Avenue, SW., Washington, DC 20585-0121. Telephone: (202) 586-8654. E-mail: Linda.Graves@ee.doe.gov.

Mr. Eric Stas, U.S. Department of Energy, Office of the General Counsel, GC-71, 1000 Independence Avenue, SW., Washington, DC 20585-0121. Telephone: (202) 586-5827. E-mail: Eric.Stas@hq.doe.gov.

For information on how to submit or review public comments and on how to participate in the public meeting, contact Ms. Brenda Edwards, U.S. Department of Energy, Office of Energy Efficiency and Renewable Energy, Building Technologies Program, EE-2J, 1000 Independence Avenue, SW., Washington, DC 20585-0121. Telephone (202) 586-2945. E-mail: Brenda.Edwards@ee.doe.gov.

SUPPLEMENTARY INFORMATION: Part A of the Energy Policy and Conservation Act of 1975 (EPCA), Public Law 94-163, (42 U.S.C. 6291-6309) established the Energy Conservation Program for Consumer Products Other Than Automobiles, a program covering most major household appliances. Over time, amendments to EPCA have given DOE expanded authority to regulate the energy efficiency of several other kinds of equipment, including certain metal halide lamp fixtures which are the focus of this notice. Amendments to EPCA in the Energy Independence and Security Act of 2007 (EISA 2007), Public Law 110-140, established energy conservation standards for certain metal halide lamp fixtures by prescribing minimum performance requirements for metal halide lamp ballasts contained in those fixtures. (42 U.S.C. 6295(hh)(1)) A summary of the standards promulgated by EISA 2007 can be found in section 1.1 of the framework document. The EISA 2007 amendments also require DOE to conduct two rulemaking cycles to determine whether standards should be amended. (42 U.S.C. 6295(hh)(2)-(3)) DOE must publish a final rule for the first amended standards rulemaking by January 1, 2012, which shall apply to products manufactured on or after January 1, 2015. (42 U.S.C. 6295(hh)(2)) This framework document is being published as a first step in meeting this statutory requirement.

Although metal halide lamp fixtures are typically understood to be equipment used in the commercial and industrial sectors, it is the “consumer products” section of the statute that grants authority to DOE to cover and regulate this equipment. In the United States Code, Title 42, “The Public Health and Welfare,” chapter 77, “Energy Conservation,” subchapter III, “Improving Energy Efficiency,” two parts cluster together the group of products DOE regulates. “Part A—Energy Conservation Program for Consumer Products Other Than Automobiles” includes a range of consumer products, some of which are used primarily in the residential sector, such as refrigerators, dishwashers, and clothes washers. Part A also includes consumer products that are also used primarily in the commercial sector, such as metal halide lamp fixtures, fluorescent lamp ballasts, and urinals. “Part A-1—Certain Industrial Equipment” in subchapter III includes products that are primarily used in the commercial and industrial sectors, such as electric motors and pumps, and packaged terminal air conditioners and heat pumps.

As amended by EISA 2007, EPCA currently regulates metal halide lamp fixtures designed to be operated with lamps rated greater than or equal to 150 watts but less than or equal to 500 watts, subject to certain exclusions discussed below. EPCA prescribes performance requirements for the metal halide lamp ballasts contained in metal halide lamp fixtures. For metal halide lamp fixtures within the specified rated lamp wattage range, the metal halide lamp fixtures must contain: (1) A pulse-start metal halide ballast with a minimum ballast efficiency of 88 percent; (2) a magnetic probe-start ballast with a minimum ballast efficiency of 94 percent; or (3) a nonpulse-start electronic ballast with (a) a minimum ballast efficiency of 92 percent for wattages greater than 250 watts, and (b) a minimum ballast efficiency of 90 percent for wattages less than or equal to 250 watts. (U.S.C. 6292 (hh)(1)(A)) Metal halide lamp fixtures excluded from regulation by the statute include metal halide lamp fixtures: (1) With regulated lag ballasts; (2) that use electronic ballasts that operate at 480 volts; or (3) that (a) are rated only for 150 watt lamps, (b) are rated for use in wet locations, as specified by the National Electrical Code 2002, section 410.4(A), and (c) contain a ballast that is rated to operate at ambient air temperatures above 50 °C, as specified by Underwriters Laboratories (UL) 1029-2001, “Standard for High-Intensity-Discharge Lamp Ballasts.” (42 U.S.C. 6292 (hh)(1)(B))

In addition to establishing energy conservation standards for metal halide lamp fixtures, EPCA, as amended by EISA 2007, directs DOE to establish test procedures for metal halide lamp ballasts based on American National Standards Institute (ANSI) Standard C82.6-2005, “Ballasts for High Intensity Discharge Lamps—Method of Measurement.” (42 U.S.C. 6293(b)(18)). On July 10, 2009, DOE published a notice of proposed rulemaking for the metal halide lamp ballast test procedure, which included definitions and test procedure requirements. 74 FR 33171. Upon publication of the final rule in this proceeding, DOE will have complied with the EPCA metal halide lamp ballast test procedure statutory requirements.

DOE notes that because of the codification of the metal halide lamp fixture provisions in 42 U.S.C. 6295, a rulemaking for metal halide lamp fixture energy conservation standards, as well as any associated test procedures, are subject to the requirements of the consumer products provisions of Part A of Title III. However, because metal halide lamp fixtures are generally considered to be commercial equipment and consistent with DOE's previous action to incorporate requirements of the Energy Policy Act of 2005 (EPACT 2005) for commercial equipment into 10 CFR part 431 (“Energy Efficiency Program for Certain Commercial and Industrial Equipment”), DOE intends to place the new requirements for metal halide lamp fixtures in 10 CFR part 431 for ease of reference. DOE notes that the location of the provisions within the CFR does not affect either the substance or applicable procedure for metal halide fixtures; as such, DOE plans to place them in the appropriate CFR part based upon the nature or type of those products. Based upon their placement into 10 CFR 431, metal halide lamp fixtures and metal halide lamp ballasts will be referred to as “equipment” throughout this notice.

In addition, pursuant to 42 U.S.C. 6295(gg)(3)(A), DOE is directed to incorporate standby mode and off mode energy use in any amended (or new) standard adopted after July 1, 2010. Because this energy conservation standards rulemaking for metal halide lamp fixtures will be completed in 2012, the requirement to incorporate standby mode and off mode energy use into the energy conservation standards analysis is applicable. However, in the proposed metal halide lamp ballast test procedure, DOE tentatively concluded that off mode does not apply to metal halide lamp fixtures. 74 FR 33171, 33175 (July 10, 2009). EISA 2007 also contains relevant definitions for “ballast,” “electronic ballast,” “metal halide ballast,” “metal halide lamp,” “metal halide lamp fixture,” “probe-start metal halide ballast,” and “pulse-start metal halide ballast.” These new definitions and standby mode and off mode requirements are fully addressed by the analyses that DOE intends to conduct in the energy conservation standards rulemaking for metal halide lamp fixtures.

To initiate the first rulemaking cycle to consider amended energy conservation standards for metal halide lamp fixtures, DOE has prepared a framework document to explain the issues, analyses, and processes it anticipates using for the development of amended energy conservation standards for certain metal halide lamp fixtures. In the framework document, DOE also presents its initial approach to consider expansion of scope, in order to determine whether the standards should be made applicable to additional metal halide lamp fixtures by establishing efficiency requirements for both fixtures with metal halide lamps outside the wattage range currently set by the statute, as well as fixtures with types of metal halide lamp ballasts currently excluded from coverage by EPCA. The main focus of the public meeting noted above will be to discuss the analyses presented and issues identified in the framework document. At the public meeting, DOE will make a number of presentations, invite discussion on the rulemaking process as it applies to certain metal halide lamp fixtures, and solicit comments, data, and information from participants and other interested parties. DOE will also invite comment on its preliminary determination of the scope of coverage for the metal halide lamp fixtures energy conservation standard. DOE is considering expanding the scope of coverage to include additional metal halide lamp fixtures that would be analyzed in the energy conservation standards rulemaking.

DOE encourages those who wish to participate in the public meeting to obtain the framework document and to be prepared to discuss its contents. A copy of the draft framework document is available at: http://www1.eere.energy.gov/buildings/appliance_standards/commercial/metal_halide_lamp_ballasts.html.

Public meeting participants need not limit their comments to the issues identified in the framework document. DOE is also interested in comments on other relevant issues that participants believe would affect energy conservation standards for this equipment, applicable test procedures, or the preliminary determination on the scope of coverage. DOE invites all interested parties, whether or not they participate in the public meeting, to submit in writing by January 29, 2010, comments and information on matters addressed in the framework document and on other matters relevant to DOE's consideration of amended standards for metal halide lamp fixtures.

The public meeting will be conducted in an informal, facilitated, conference style. There shall be no discussion of proprietary information, costs or prices, market shares, or other commercial matters regulated by U.S. antitrust laws. A court reporter will record the proceedings of the public meeting, after which a transcript will be available for purchase from the court reporter and placed on the DOE Web site at: http://www1.eere.energy.gov/buildings/appliance_standards/commercial/metal_halide_lamp_ballasts.html.

After the public meeting and the close of the comment period on the framework document, DOE will begin collecting data, conducting the analyses as discussed in the framework document and at the public meeting, and reviewing the public comments it receives.

DOE considers public participation to be a very important part of the process for setting energy conservation standards. DOE actively encourages the participation and interaction of the public during the comment period in each stage of the rulemaking process. Beginning with the framework document, and during each subsequent public meeting and comment period, interactions with and between members of the public provide a balanced discussion of the issues to assist DOE in the standards rulemaking process. Accordingly, anyone who wishes to participate in the public meeting, receive meeting materials, or be added to the DOE mailing list to receive future notices and information about this rulemaking should contact Ms. Brenda Edwards at (202) 586-2945, or via e-mail at Brenda.Edwards@ee.doe.gov.

Issued in Washington, DC, on December 23, 2009.
Cathy Zoi,
Assistant Secretary, Energy Efficiency and Renewable Energy.

[FR Doc. E9-30885 Filed 12-29-09; 8:45 am]

BILLING CODE 6450-01-P